DEPARTMENT OF THE INTERIOR

U.S. Geological Survey

[GX12GC009PLSG0]

Agency Information Collection: Comment Request AGENCY: United States Geological Survey (USGS), Interior

ACTION: Notice of an extension of a currently approved collection (1028-0088).

SUMMARY: To comply with the Paperwork Reduction Act of 1995 (PRA), we are notifying the public that we will submit to OMB an extension of a currently approved information collection for the National Cooperative Geologic Mapping Program (NCGMP)—EDMAP and STATEMAP. As required by the Paperwork Reduction Act (PRA) of 1995, and as part of our continuing efforts to reduce paperwork and respondent burden, we invite the general public and other Federal agencies to take this opportunity to comment on this Information Collection (IC). The existing IC is scheduled to expire on August 31, 2012.

DATES: You must submit comments on or before April 27, 2012.

ADDRESSES: Please submit a copy of your written comments to USGS Information Collection Clearance Officer, U.S. Geological Survey, 12201 Sunrise Valley Drive, MS 807, Reston, VA 20192 (mail); 703-648-7199 (fax); or smbaloch@usgs.gov. Please reference Information Collection 1028-0088, NCGMP EDMAP and STATEMAP.

FOR FURTHER INFORMATION CONTACT: Douglas A. Howard, Associate Program Coordinator NCGMP (STATEMAP and EDMAP), USGS Geological Survey, 12201 Sunrise Valley Drive, MS 908, 20192 (mail); at 703-648-6978 (telephone); or dahoward@usgs.gov (email).

SUPPLEMENTARY INFORMATION: Title: National Cooperative Geologic Mapping Program (NCGMP-EDMAP and STATEMAP).

OMB Control Number: 1028-0088.

Abstract: EDMAP is the educational component of the NCGMP that is intended to train the next generation of geologic mappers. The NCGMP allocates funds to colleges and universities in the United States and Puerto Rico through an annual competitive cooperative agreement process. Every federal dollar that is awarded is matched with university funds. Geology professors, who are skilled in geologic mapping, request EDMAP funding to support undergraduate and graduate students at their college or university in a one-year mentored geologic mapping project that focuses on a specific geographic area. Each fall, the program announcement is posted to the Grants.gov Web site and respondents are required to submit applications (comprising of Standard Form 424, 424A, 424B, a Negotiated Rate Agreement, a Support letter from State Geologist or USGS Project Chief, an EDMAP Proposal Summary Sheet, the Proposal, and Budget Sheets) using Grants.gov.

Since 1996, more than $5 million from the NCGMP have supported geologic mapping efforts of more than 1,000 students working with more than 244 professors at 148 universities in 44 states, the District of Columbia, and Puerto Rico. Funds for graduate projects are limited to $17,500 and undergraduate project funds limited to $10,000. These funds are used to cover field expenses and student salaries, but not faculty salaries. The authority for the program is listed in the National Geologic Mapping Act (Pub. L. 106-148).

We will protect information from respondents considered proprietary under the Freedom of Information Act (5 U.S.C. 552) and it's implementing regulations (43 CFR Part 2), and under regulations at 30 CFR 250.197, “Data and information to be made available to the public or for limited inspection.” Responses are voluntary. No questions of a “sensitive” nature are asked.

Frequency of Collection: Annually.

Respondent's Obligation: Voluntary (necessary to receive funding).

Estimated Number and Description of Respondents: Approximately 50 University/College Professors or faculty advisors annually.

Annual Burden Hours: 1,640 hours.

Estimated Annual Reporting and Recordkeeping “Hour” Burden: We expect to receive approximately 50 applications each year which takes each applicant approximately 20 hours to complete, totaling 1,000 hours. This includes the time for project conception and development, proposal writing and reviewing, and submitting a project narrative through Grants.gov. We expect to issue 40 grants per year. The grant recipients are also required to submit a final technical report which takes each grant recipient approximately 16 hours to complete, totaling 640 hours.

Estimated Annual Reporting and Recordkeeping “Non-Hour Cost”: We have not identified any “non-hour cost” burdens associated with this collection of information.

Public Disclosure Statement: The PRA (44 U.S.C. 3501, et seq.) provides that an agency may not conduct or sponsor and you are not required to respond to, a collection of information unless it displays a currently valid OMB control number.

Comments: We invite comments concerning this IC on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology. Please note that any comments submitted in response to this notice are a matter of public record. Before including your address, phone number, email address or other personal identifying information in your comment, you should be aware that your entire comment including your personal identifying information, may be made publically available at any time. While you can ask OMB in your comment to withhold your personal identifying information from public review, we cannot guarantee that will be done.

Dated: February 17, 2012.
Douglas A. Howard,
Associate Program Coordinator, National Cooperative Geologic Mapping Program.

[FR Doc. 2012-4442 Filed 2-24-12; 8:45 am]

BILLING CODE 4311-AM-P